ENVIRONMENTAL PROTECTION AGENCY

[FRL-6532-1]

Notice of Public Meeting and Extension of Time to Comment on the Interim Guidance on the Comprehensive Environmental Response, Compensation and Liability Act (CERCLA) Section 101(10)(H) Federally Permitted Release Definition for Certain Air Emissions

ACTION: Notice.

SUMMARY: The Environmental Protection Agency (EPA) is announcing a public meeting to be held on February 24, 2000 in Washington, DC and is also announcing an extension of time to comment on the Interim Guidance on the CERCLA Section 101(10)(H) Federally Permitted Release Definition for Certain Air Emissions.

ADDRESSES: Send comments to EPA, CERCLA Federally Permitted Release Definition, Docket Number EC-G-1999-029, Mail Code 2201-A, and mail to: 401 M Street, SW, Washington DC, 20460; or fax to: (202) 501-1011; or email to: docket.oeca@epa.gov. Commentors who want EPA to acknowledge receipt of their comments must mail a self-addressed, stamped envelope.

FOR FURTHER INFORMATION: For further information regarding the public meeting and extension of time, please contact Beth Burchard, Environmental Protection Agency (Mail Code 2245A), 401 M Street, SW, EPA Headquarters, Washington, DC 20460; (202) 564-4177.

SUPPLEMENTARY INFORMATION:

Purpose of this Notice

The Environmental Protection Agency announces a public meeting to be held on February 24, 2000 at 1:00 p.m. at the Ariel Rios, South Building, 1200 Pennsylvania Avenue, NW., Room 6226, Washington, DC. The subject of the meeting will be the December 21, 1999 Interim Guidance on the CERCLA Section 101(10)(H) Federally Permitted Release Definition for Certain Air Emissions. The guidance discusses EPA's interpretation of the federally permitted release exemption as it applies to certain air emissions, responds to industry questions, and solicits public comment on the issues discussed in the interim guidance. The interim guidance was published in the Federal Register at 64 FR 71614 (Dec. 21, 1999).

The meeting in Washington, DC will include a brief overview of the interim guidance, followed by a question, answer and comment period. Those wishing to attend should call Beth Burchard at (202) 564-4177 no later than February 18, 1999 so that their names can be added to a security list. Attendees must bring a photo ID.

By publication of this notice the Environmental Protection Agency also announces an extension of time to submit comments on the interim guidance from February 22, 2000 to March 10, 2000.
Eric Schaeffer,
Director, Office of Regulatory Enforcement.

[FR Doc. 00-2281 Filed 2-1-00; 8:45 am]

BILLING CODE 6560-50-P